DEPARTMENT OF TRANSPORTATION

Federal Aviation Administration

[Docket No. FAA-2024-0366]

Agency Information Collection Activities: Requests for Comments; Clearance of a Renewed Approval of Information Collection: Pilot Professional Development

AGENCY: Federal Aviation Administration (FAA), Department of Transportation.

ACTION: Notice and request for comments.

SUMMARY: In accordance with the Paperwork Reduction Act of 1995, FAA invites public comments about our intention to request the Office of Management and Budget (OMB) approval to renew an information collection. The Federal Register Notice with a 60-day comment period soliciting comments on the following collection of information was published on February 12, 2024. The collection involves requirements primarily applicable to air carriers conducting domestic, flag, and supplemental operations to enhance the professional development of pilots in those operations. The action requires air carriers conducting domestic, flag, and supplemental operations to provide new-hire pilots with an opportunity to observe flight operations and become familiar with procedures before serving as a flightcrew member in operations. Additionally, it requires air carriers who have not previously revised the upgrade training to include professional development and to provide leadership and command and mentoring training for all pilots in command. The information to be collected is necessary to mitigate incidents of unprofessional pilot behavior and reduce pilot errors that can lead to a catastrophic event.

DATES: Written comments should be submitted by December 16, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sandra Ray by email at: Sandra.ray@faa.gov; phone: 412-546-7344.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0802.

Title: Pilot Professional Development.

Form Numbers: None.

Type of Review: Renewal of an information collection.

Background: The Federal Register Notice with a 60-day comment period soliciting comments on the following collection of information was published on February 12, 2024 (89 FR 9902). The collection involves requirements primarily applicable to air carriers conducting domestic, flag, and supplemental operations to enhance the professional development of pilots in those operations. These amendments to part 121 set out prerequisites and levy requirements that must be met by certificate holders using part 121 pilot training and qualification programs and by those individuals who serve in given capacities for those certificate holders.

The FAA anticipates that certificate holders will incur costs for the following groups of provisions:

• Operations familiarization for new-hire pilots (§ 121.435);

• Leadership and command and mentoring ground training for pilots currently serving as pilot in command (PIC) (§ 121.429) and recurrent PIC leadership and command and mentoring ground training (§§ 121.409(b) and 121.427);

• Leadership and command training and recurrent leadership and command training for pilots serving as second in command (SIC) in operations that require three or more pilots (§ 121.432(a))

• Upgrade training curriculum requirements (§§ 121.420 and 121.426);

• Part 121, appendix H requirements; and

• Approval of Qualification Standards Document for certificate holders using an Advanced Qualification Program (AQP) (§ 121.909).

The development and approval of new and revised curriculums will be a one-time occurrence for each certificate holder. The documentation regarding training in leadership and command and mentoring for current PICs will be a one-time occurrence. Similarly, the documentation regarding training in leadership and command for current SICs serving in operations that require three or more pilots will be a one-time occurrence. The documentation of operations familiarization for new-hire pilots will occur once for each new-hire pilot. The documentation of recurrent PIC leadership and command and mentoring training will occur every three years for each PIC. The documentation of recurrent leadership and command training for SICs serving in operations that require three or more pilots will occur every three years for each such SIC.

Respondents: Part 121 Air Carriers.

Frequency: Varies per Requirement.

Estimated Average Burden per Response: Varies per Requirement.

Estimated Total Annual Burden: 341 Hours.

Issued in Washington, DC, on November 12, 2024.
Sandra L. Ray,
Aviation Safety Inspector, AFS-260.

[FR Doc. 2024-26694 Filed 11-14-24; 8:45 am]

BILLING CODE 4910-13-P